DEPARTMENT OF LABOR

Employment and Training Administration

[TA-W-65,629]

Coadna Photonics, Inc., Sunnyvale, CA; Notice of Termination of Investigation

Pursuant to Section 221 of the Trade Act of 1974, as amended, an investigation was initiated on March 18, 2009 in response to a worker petition filed on behalf of the workers at CoAdna Photonics, Inc., Sunnyvale, California.

The petitioners have requested that the petition be withdrawn. Consequently, the investigation has been terminated.

Signed at Washington, DC, this 10th day of April 2009.
Richard Church,
Certifying Officer, Division of Trade Adjustment Assistance.

[FR Doc. E9-10884 Filed 5-8-09; 8:45 am]

BILLING CODE 4510-FN-P